DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing updates to the identifying information of one person currently included on the SDN List.

DATES: This action was issued on November 4, 2025. See Supplementary Information for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

A. On November 4, 2025, OFAC determined that the property and interests in property subject to U.S. jurisdiction of the following persons are blocked under the relevant sanctions authorities listed below.

Individuals

1. JANG, Kuk Chol (a.k.a. CHANG, Kuk Ch'o'l), Vladivostok, Russia; DOB 03 Jul 1987; nationality Korea, North; Gender Male; Secondary sanctions risk: North Korea Sanctions Regulations, sections 510.201 and 510.210; Transactions Prohibited For Persons Owned or Controlled By U.S. Financial Institutions: North Korea Sanctions Regulations section 510.214; Passport 754420443 (Korea, North) (individual) [DPRK4] [CYBER4].

Designated pursuant to section 1(a)(iii)(C) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659, and as further amended by Executive Order 14144 of January 16, 2025, “Strengthening and Promoting Innovation in the Nation's Cybersecurity,” 90 FR 6755, and Executive Order 14306 of June 6, 2025, “Sustaining Select Efforts To Strengthen the Nation's Cybersecurity and Amending Executive Order 13694 and Executive Order 14144,” 90 FR 24723 (E.O. 13694, as further amended), for having materially assisted, sponsored, or provided financial, material, or technological support for, or goods or services to or in support of, an activity described in section 1(a)(ii)(D) of E.O. 13694, as further amended.

Designated pursuant to section 1(a)(iv) of Executive Order 13810 of September 20, 2017, “Imposing Additional Sanctions With Respect to North Korea,” 82 FR 44705, 3 CFR, 2017 Comp., p. 379 (September 25, 2017) (E.O. 13810) for being a North Korean person, including a North Korean person that has engaged in commercial activity that generates revenue for the Government of North Korea or the Workers' Party of Korea.

2. HO, Jong Son (a.k.a. HO', Cho'ng So'n), Korea, North; DOB 21 Nov 1964; POB Japan; nationality Korea, North; Gender Male; Secondary sanctions risk: North Korea Sanctions Regulations, sections 510.201 and 510.210; Transactions Prohibited For Persons Owned or Controlled By U.S. Financial Institutions: North Korea Sanctions Regulations section 510.214; Passport 754120050 (Korea, North) (individual) [DPRK4] [CYBER4].

Designated pursuant to section 1(a)(iii)(C) of E.O. 13694, as further amended, for having materially assisted, sponsored, or provided financial, material, or technological support for, or goods or services to or in support of, an activity described in section 1(a)(ii)(D) of E.O. 13694, as further amended.

Designated pursuant to section 1(a)(iv) of E.O. 13810 for being a North Korean person, including a North Korean person that has engaged in commercial activity that generates revenue for the Government of North Korea or the Workers' Party of Korea.

Designated pursuant to section 1(a)(ii)(F) of Executive Order 13551 of August 30, 2010, “Blocking Property of Certain Persons With Respect to North Korea” (E.O. 13551), 75 FR 53837, 3 CFR, 2010 Comp., p. 242, being owned or controlled by, or having acted or purported to act for or on behalf of, directly or indirectly, KOREA DAESONG BANK, a person whose property or interests in property are blocked pursuant to E.O. 13551.

4. CHOE, Chun Pom (a.k.a. CH'OE, Ch'un-po'm), Beijing, China; DOB 20 Feb 1975; nationality Korea, North; Gender Male; Secondary sanctions risk: North Korea Sanctions Regulations, sections 510.201 and 510.210; Transactions Prohibited For Persons Owned or Controlled By U.S. Financial Institutions: North Korea Sanctions Regulations section 510.214; Passport 199320353 (Korea, North) (individual) [DPRK3] (Linked To: CENTRAL BANK OF THE DEMOCRATIC PEOPLE'S REPUBLIC OF KOREA).

Designated pursuant to section 2(a)(viii) of Executive Order 13722 of March 15, 2016 “Blocking Property of the Government of North Korea and the Workers' Party of Korea, and Prohibiting Certain Transactions With Respect to North Korea” (E.O. 13722), 81 FR 14943, 3 CFR, 2016 Comp., p. 446, for being owned or controlled by, or having acted or purported to act for or on behalf of, directly or indirectly, CENTRAL BANK OF THE DEMOCRATIC PEOPLE'S REPUBLIC OF KOREA, a person whose property and interests in property are blocked pursuant to E.O. 13722.

5. RI, Jin Hyok (a.k.a. RI, Chin-hyo'k), Zhuhai, China; DOB 20 Feb 1983; nationality Korea, North; Gender Male; Secondary sanctions risk: North Korea Sanctions Regulations, sections 510.201 and 510.210; Transactions Prohibited For Persons Owned or Controlled By U.S. Financial Institutions: North Korea Sanctions Regulations section 510.214; Passport 563120232 (Korea, North) (individual) [DPRK3] (Linked To: FOREIGN TRADE BANK OF THE DEMOCRATIC PEOPLE'S REPUBLIC OF KOREA).

Designated pursuant to section 2(a)(viii) of E.O. 13722 for being owned or controlled by, or having acted or purported to act for or on behalf of, directly or indirectly, FOREIGN TRADE BANK OF THE DEMOCRATIC PEOPLE'S REPUBLIC OF KOREA, a person whose property and interests in property are blocked pursuant to E.O. 13722.

Designated pursuant to section 1(a)(v) of E.O. 13810 for having materially assisted, sponsored, or provided financial, material, or technological support for, or goods or services to or in support of, KORYO COMMERCIAL BANK, an entity whose property and interests in property are blocked pursuant to E.O. 13810

7. U, Yong Su, Dandong, China; DOB 19 Jun 1971; nationality Korea, North; Gender Male; Secondary sanctions risk: North Korea Sanctions Regulations, sections 510.201 and 510.210; Transactions Prohibited For Persons Owned or Controlled By U.S. Financial Institutions: North Korea Sanctions Regulations section 510.214; Passport 481231176 (Korea, North) expires 17 May 2026 (individual) [DPRK4] (Linked To: KOREA MANGYONGDAE COMPUTER TECHNOLOGY CORPORATION).

Designated pursuant to section 1(a)(vi) of E.O. 13810 for being owned or controlled by, or having acted or purported to act for or on behalf of, directly or indirectly, KOREA MANGYONGDAE COMPUTER TECHNOLOGY CORPORATION, a person whose property and interests in property are blocked pursuant to E.O. 13810.

8. JONG, Sung Hyok (a.k.a. CHONG, Sung-hyok), Vladivostok, Russia; DOB 19 Aug 1971; nationality Korea, North; Gender Male; Secondary sanctions risk: North Korea Sanctions Regulations, sections 510.201 and 510.210; Transactions Prohibited For Persons Owned or Controlled By U.S. Financial Institutions: North Korea Sanctions Regulations section 510.214; Passport 754420338 (Korea, North) (individual) [DPRK3] (Linked To: FOREIGN TRADE BANK OF THE DEMOCRATIC PEOPLE'S REPUBLIC OF KOREA).

Designated pursuant to section 2(a)(viii) of E.O. 13722 for being owned or controlled by, or having acted or purported to act for or on behalf of, directly or indirectly, FOREIGN TRADE BANK OF THE DEMOCRATIC PEOPLE'S REPUBLIC OF KOREA, a person whose property and interests in property are blocked pursuant to E.O. 13722.

Entities

9. RYUJONG CREDIT BANK, Pyongyang, Korea, North; Secondary sanctions risk: North Korea Sanctions Regulations, sections 510.201 and 510.210; Transactions Prohibited For Persons Owned or Controlled By U.S. Financial Institutions: North Korea Sanctions Regulations section 510.214; Target Type Financial Institution [DPRK4].

Designated pursuant to section 1(a)(i) of E.O. 13810 for operating in the financial services industry in North Korea.

10. KOREA MANGYONGDAE COMPUTER TECHNOLOGY CORPORATION (a.k.a. KOREA MANGYONGDAE COMPUTER TECHNOLOGY CORP.; a.k.a. MANGYONGDAE COMPUTER TECHNOLOGY), Songhung-dong, Korea, North; Secondary sanctions risk: North Korea Sanctions Regulations, sections 510.201 and 510.210; Transactions Prohibited For Persons Owned or Controlled By U.S. Financial Institutions: North Korea Sanctions Regulations section 510.214; Organization Type: Other information technology and computer service activities [DPRK4].

Designated pursuant to section 1(a)(i) of E.O. 13810 for operating in the information technology industry in North Korea.

B. On November 4, 2025, OFAC updated the SDN List entry for the following person, whose property and interests in property subject to U.S. jurisdiction continue to be blocked. The listing below reflects the amended entry on the SDN List.

—From—

CHEIL CREDIT BANK (a.k.a. FIRST CREDIT BANK; f.k.a. “KYONGYONG CREDIT BANK”), 3-18 Pyongyang Information Center, Potonggang District, Pyongyang, Korea, North; Beijing, China; Shenyang, China; Shanghai, China; SWIFT/BIC KYCBKPPY; Secondary sanctions risk: North Korea Sanctions Regulations, sections 510.201 and 510.210; Transactions Prohibited For Persons Owned or Controlled By U.S. Financial Institutions: North Korea Sanctions Regulations section 510.214; [DPRK4]

—To—

CHEIL CREDIT BANK (a.k.a. FIRST CREDIT BANK; a.k.a. “KYONGYONG CREDIT BANK”), 3-18 Pyongyang Information Center, Potonggang District, Pyongyang, Korea, North; Beijing, China; Shenyang, China; Shanghai, China; SWIFT/BIC KYCBKPPY; Secondary sanctions risk: North Korea Sanctions Regulations, sections 510.201 and 510.210; Transactions Prohibited For Persons Owned or Controlled By U.S. Financial Institutions: North Korea Sanctions Regulations section 510.214; Target Type Financial Institution; Digital Currency Address—USDT TA3941uFAvmVibSkQ6fMJXxmaSNovX86mz; alt. Digital Currency Address—USDT TA39q3p75XRSWYAEaSF7dANtyksoa3sLge; alt. Digital Currency Address—USDT TBATDh41qMQ1yeVYecneEvhpfayYmkAQWS; alt. Digital Currency Address—USDT TBwghbQMsBC5xcUxE7ZpYXhfDMXZAfiFv6; alt. Digital Currency Address—USDT TBWRDpQsW1ZVPGGaBAwVLNb7iqmVBuM1nj; alt. Digital Currency Address—USDT TBYRhsZR7Mdn9ezpGVLwZiNVnGm8wZGLAD; alt. Digital Currency Address—USDT TBZefVsyQpzzxc2WSCLbZBECvxVdzGqdtC; alt. Digital Currency Address—USDT TC5UNu3LGrjjVCuLNDdVgjm4oL5cQAyFRZ; alt. Digital Currency Address—USDT TCA7AfTSuDmgYk2VaezfPuZF4Z4X8wxwcQ; alt. Digital Currency Address—USDT TDNKsLvsY2iSznyghddXz7ZDRc4X3191Z8; alt. Digital Currency Address—USDT TE3mCcPULjPUE7ykX7RArDPAhyahoy3d2j; alt. Digital Currency Address—USDT TF4J8Gp7zbS8NA3HLuxsLdx7Ebzr6weCGn; alt. Digital Currency Address—USDT TFdHux43bs21qRsygv5WQWfgtbQeT6nXey; alt. Digital Currency Address—USDT TFrH3dcpnR3tADrAcfyJwiK4brsgf3B7PG; alt. Digital Currency Address—USDT TFurWgnyNMq9bhLrLoT9FGnrLfAL2BtR5R; alt. Digital Currency Address—USDT TGDaYNWFXi9HJ7NacfETF15vhUH7eRhKzt; alt. Digital Currency Address—USDT TGdpkwNVFjw2DnbHBCFKLvCygPVPz9w4iM; alt. Digital Currency Address—USDT TGKgLatirRpTugS6wgCUKerjLbzWKXAVqx; alt. Digital Currency Address—USDT TGMFaAXH15oaW8MpcNHLid6NbMKWaaNPdC; alt. Digital Currency Address—USDT TGpNzk9noyvCCdnFPuSg5cqptPs16LjXZq; alt. Digital Currency Address—USDT TGRZZsD8gxahF5oE6C7K8LLRHqQzoPa5bX; alt. Digital Currency Address—USDT THEQTsqPhRDDfgcfBW5npH5Lr9PZhpthrf; alt. Digital Currency Address—USDT THHb5iMAbZgQYY19h6uY66y5xt6e11gcZC; alt. Digital Currency Address—USDT THob8vRrpDybXeqZDj8ukQhMjJVJ5nCbTW; alt. Digital Currency Address—USDT THUqqeevBQS3EYordDJKwp8DLFknesnfCD; alt. Digital Currency Address—USDT TJ812KESWjzJZGEWBPFCu74Js5zQS7jN5A; alt. Digital Currency Address—USDT TJBg9SxwiUUoqJGk18vK9avxkuV8GrKMK7; alt. Digital Currency Address—USDT TLRMHPjLGXsVpD9RVzSfat6zDiVDrd4b4w; alt. Digital Currency Address—USDT TMECKT19hfumcK3KqQKbhxkn1ohyeR58xu; alt. Digital Currency Address—USDT TMgnRWb9xFMtktny9Lzty21QYLLQD93ft6; alt. Digital Currency Address—USDT TMiSGhXXVsvJzqwGbwAsGiFxWg2eALZoM5; alt. Digital Currency Address—USDT TPcUZYthDfxNsHQnZZGBM1BDNBeNSjfPZE; alt. Digital Currency Address—USDT TPF9UQhqpV18BPWg5xo6MeB3h8t4iEg9gP; alt. Digital Currency Address—USDT TPo3JyryRcQ3uhBWexeYhtkpMitsUwY4uB; alt. Digital Currency Address—USDT TPPR7e8hGC57dexrE2jy1f94wtuGyVP6Dp; alt. Digital Currency Address—USDT TQKQ4ntejdYYJpuYkFz8oCSDoXW6RKRDdY; alt. Digital Currency Address—USDT TQthYM5nLqwAEr6DScC8tRtw29ncEB53mK; alt. Digital Currency Address—USDT TR18rEj7gWjKBJLYrowyfnvjWLTTsXGngK; alt. Digital Currency Address—USDT TRkGqvaobVp4XDNmSceRo5hDcJYDTFmYjd; alt. Digital Currency Address—USDT TTct1DezYvriNWU7Wi3mygLoskkaw61mra; alt. Digital Currency Address—USDT TTUqoT6EAmiM1xLvwVwxhjvjaoEUGtKDdZ; alt. Digital Currency Address—USDT TTzMs5AR66jr9mQMkWfCHVwd3AiLLYPepQ; alt. Digital Currency Address—USDT TUKsuPVb8kgJVFp5x528KC5HisUVdzxami; alt. Digital Currency Address—USDT TVDsEFm19zLV8HeXdt6G75rLroxnp6uqpV; alt. Digital Currency Address—USDT TVu2SiQrWSnfwk8quAeDxfiaLy6FHzYkMA; alt. Digital Currency Address—USDT TVyiDQ25H6Rx6PcNV1WyjGasGSa8ehj1Uv; alt. Digital Currency Address—USDT TW3RgbhYkFEFnmRJ9mE9b83T9XYSMkjwuD; alt. Digital Currency Address—USDT TWwv8FQiES3yHGig7y3zJWYuPaZfSV3vmY; alt. Digital Currency Address—USDT TXc4kRiMEcdXRxWpSKkD5qKaARExN4uxPq; alt. Digital Currency Address—USDT TXFUYHVJMDyKikutvCG6qNgTUS5pxtZhHs; alt. Digital Currency Address—USDT TYD6a4PAAfAgegEdDf9oZUnW4DFmS8jeFT; alt. Digital Currency Address—USDT TYK29mbyvVxLaLUKdFSTRADMwoxaVbVZQg; alt. Digital Currency Address—USDT TYxwUhoLPF7AgfG9GaXFEp8CQi8K8KG1m3 [DPRK4].

Bradley T. Smith,
Director, Office of Foreign Assets Control.

[FR Doc. 2025-19924 Filed 11-14-25; 8:45 am]

BILLING CODE 4810-AL-P